DEPARTMENT OF THE INTERIOR

National Park Service

[NPS-WASO-NAGPRA-NPS0038630; PPWOCRADN0-PCU00RP14.R50000]

Notice of Inventory Completion: Hood Museum of Art, Dartmouth College, Hanover, NH

AGENCY: National Park Service, Interior.

ACTION: Notice.

SUMMARY: In accordance with the Native American Graves Protection and Repatriation Act (NAGPRA), the Hood Museum of Art, Dartmouth College has completed an inventory of human remains and associated funerary objects and has determined that there is a cultural affiliation between the human remains and associated funerary objects and Indian Tribes or Native Hawaiian organizations in this notice.

DATES: Repatriation of the human remains and associated funerary objects in this notice may occur on or after October 3, 2024.

ADDRESSES: Jami C. Powell, Associate Director of Curatorial Affairs & Curator of Indigenous Art, Hood Museum of Art, 6 East Wheelock Street, Hanover, NH 03755, telephone (603) 646-2822, email hood.NAGPRA@dartmouth.edu.

SUPPLEMENTARY INFORMATION: This notice is published as part of the National Park Service's administrative responsibilities under NAGPRA. The determinations in this notice are the sole responsibility of the Hood Museum of Art, Dartmouth College, and additional information on the determinations in this notice, including the results of consultation, can be found in its inventory or related records. The National Park Service is not responsible for the determinations in this notice.

Abstract of Information Available

Human remains representing, at least, one individual were removed from Campbell County, SD.

The human remains include one individual that was removed from the Anton Rygh site (39CA4). During the summers of 1965, 1966, 1968, 1969, 1970, and 1973, human remains were removed from site 39CA4 under the direction of William Bass. Site 39CA4 is a large, multi-component earth lodge village, part of the Plains Village Tradition. It is a fortified village site covering around 11-12 acres. At least two occupations are suggested by archeological evidence. The first occupation dates to the Extended Middle Missouri period (A.D. 1000-1500), while the second occupation dates to the Extended Coalescent (A.D. 1500-1675), and Post Contact Coalescent (A.D. 1675-1780) periods. No known individuals were identified. The four lots of associated funerary objects are one lot of faunal remains, one lot of ceramic sherds, one lot of stone chips, and one round stone tool.

Human remains, representing, at minimum seven individuals were likely removed the Sully site (39SL4) from Sully County, SD, the Truman site (39BF224) and the McBride II Mounds site (39BF270) from Buffalo County, SD, and/or the Anton Rygh site (39CA4) Campbell County, SD. The human remains include three adults and four juveniles. Previously housed in the Physical Anthropology Lab on the campus of Dartmouth College, these remains were located and identified during a 2022 reinventory conducted by the Hood Museum NAGPRA Office. While there is no direct documentation linking these human remains to these sites, they share a unique color and patina with other human remains which are known to have been removed from these sites. Through tribal consultation, it has been determined that these human remains should be associated with these specific sites. No known individuals were identified. No associated funerary objects are present.

No known substances were used to treat the Ancestors described in this notice.

Cultural Affiliation

Based on the information available and the results of consultation, cultural affiliation is reasonably identified by the geographical location or acquisition history of the human remains and associated funerary objects described in this notice.

Determinations

The Hood Museum of Art, Dartmouth College has determined that:

• The human remains described in this notice represent the physical remains of eight individuals of Native American ancestry.

• The four objects described in this notice are reasonably believed to have been placed intentionally with or near individual human remains at the time of death or later as part of the death rite or ceremony.

• There is a connection between the human remains and associated funerary objects described in this notice and the Three Affiliated Tribes of the Fort Berthold Reservation, North Dakota.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after October 3, 2024. If competing requests for repatriation are received, the Hood Museum of Art, Dartmouth College must determine the most appropriate requestor prior to repatriation. Requests for joint repatriation of the human remains and associated funerary objects are considered a single request and not competing requests. The Hood Museum of Art, Dartmouth College is responsible for sending a copy of this notice to the Indian Tribes and Native Hawaiian organizations identified in this notice.

Authority: Native American Graves Protection and Repatriation Act, 25 U.S.C. 3003, and the implementing regulations, 43 CFR 10.10.

Dated: August 26, 2024.
Melanie O'Brien,
Manager, National NAGPRA Program.

[FR Doc. 2024-19686 Filed 8-30-24; 8:45 am]

BILLING CODE 4312-52-P